DEPARTMENT OF DEFENSE

Office of the Secretary

Meeting of the Board of Regents of the Uniformed Services University of the Health Sciences

AGENCY: Uniformed Services University of the Health Sciences (USU), DoD.

ACTION: Notice of quarterly meeting.

SUMMARY: Under the provisions of the Federal Advisory Committee Act of 1972 (5 U.S.C., Appendix, as amended) and the Sunshine in the Government Act of 1976 (5 U.S.C. 552b, as amended), this notice announces the following meeting of the Board of Regents of the Uniformed Services University of the Health Sciences.

Name of Committee: Board of Regents of the Uniformed Services University of the Health Sciences.

Date of Meeting: Tuesday, February 1, 2011.

8 a.m. to 10 a.m. (Open Session).

10 a.m. to 11 a.m. (Closed Session).

Location: U.S. Army Medical Museum, Building 1046, 2310 Stanley Road, San Antonio, Texas 78208.

SUPPLEMENTARY INFORMATION: Purpose of the Meeting: Meetings of the Board of Regents assure that USU operates in the best traditions of academia. An outside Board is necessary for institutional accreditation.

Agenda: The actions that will take place include the approval of minutes from the Board of Regents Meeting held November 9, 2010; recommendations regarding the approval of faculty appointments and promotions in the School of Medicine, the Graduate School of Nursing, and the Postgraduate Dental College; and recommendations regarding the awarding of master's and doctoral degrees in the biomedical sciences and public health. The University President will also present a report. These actions are necessary for the University to pursue its mission, which is to provide outstanding health care practitioners and scientists to the uniformed services.

Meeting Accessibility: Pursuant to Federal statute and regulations (5 U.S.C. 552b, as amended, and 41 CFR 102-3.140 through 102-3.165) and the availability of space, most of the meeting is open to the public. Seating is on a first-come basis. The closed portion of this meeting is authorized by 5 U.S.C. 552b(c)(6) as the subject matter involves personal and private observations.

Written Statements: Interested persons may submit a written statement for consideration by the Board of Regents. Individuals submitting a written statement must submit their statement to the Designated Federal Officer at the address listed below. If such statement is not received at least 10 calendar days prior to the meeting, it may not be provided to or considered by the Board of Regents until its next open meeting. The Designated Federal Officer will review all timely submissions with the Board of Regents Chairman and ensure such submissions are provided to Board of Regents Members before the meeting. After reviewing the written comments, submitters may be invited to orally present their issues during the February 2011 meeting or at a future meeting.

FOR FURTHER INFORMATION CONTACT: Janet S. Taylor, Designated Federal Officer, 4301 Jones Bridge Road, Bethesda, Maryland 20814; telephone 301-295-3066.

Ms. Taylor can also provide base access procedures.

Dated: December 23, 2010.
Morgan F. Park,
Alternate OSD Federal Register Liaison Officer, Department of Defense.

[FR Doc. 2010-32736 Filed 12-28-10; 8:45 am]

BILLING CODE 5001-06-P